DEPARTMENT OF JUSTICE

Drug Enforcement Administration

Brenda J. Lightfoote-Young, M.D.; Revocation of Registration

On April 11, 2003, the Deputy Assistant Administrator, Office of Diversion Control, Drug Enforcement Administration (DEA), issued an Order to Show Cause to Brenda J. Lightfoote-Young, M.D. (Dr. Lightfoote-Young) of Eureka and Big Bear Lake, California, notifying her of an opportunity to show cause as to why DEA should not revoke her DEA Certificate of Registration, BL0935518 under 21 U.S.C. 824(a) any deny and pending applications of renewal or modification of that registration. As a basis for revocation, the Order to Show Cause alleged that Dr. Lightfoote-Young is not currently authorized to practice medicine or handle controlled substances in California, her state of registration and practice. The order also notified Dr. Lightfoote-Young that should no request for a hearing be filed within 30 days, her hearing right would be deemed waived.

The Order to Show Cause was sent by certified mail to Dr. Lightfoote-Young at both her registered location at 3144 Broadway, Suite 4-434, Eureka, California, and to P.O. Box 130249, Big Bear Lake, California. On April 29, 2003, according to the return receipt, Dr. Lightfoote-Young received the Order to Show Cause that was mailed to her Big Bear address. DEA has not received a request for hearing or any other reply from Dr. Lightfoote-Young or anyone purporting to represent her in this matter. Therefore, the Acting Deputy Administrator, finding that (1) 30 days have passed since the receipt of the Order to Show Cause, and (2) no request for a hearing having been received, concludes that Dr. Lightfoote-Young is deemed to have waived her hearing right. After considering material from the investigative file in this matter, the Acting Deputy Administrator now enters her final order without a hearing pursuant to 21 CFR 1301.43(d) and (e) and 1301.46.

The Acting Deputy Administrator finds that Dr. Lightfoote-Young possesses DEA Certificate of Registration BL0935518, which expired on March 31, 2003. The Acting Deputy Administrator further finds that on July 8, 1999, the Medical Board of California (the Board) filed an accusation against Dr. Lightfoote-Young alleging that she violated California Business and Professions Code, section 2239(b), by arriving at work under the influence of alcohol. On March 31, 2000, Dr. Lightfoote-Young and her counsel signed a stipulated settlement and disciplinary order with the Board revoking her medical certificate, but staying that revocation and placing her on five years probation under certain terms and conditions. The disciplinary order provided she was to enroll and participate in the Division of Medical Quality (the Division) Diversion Program until the Division determined that further treatment and rehabilitation were no longer necessary. The order further provided that quitting the program without permission or being expelled for cause would constitute a violation of Dr. Lightfoote-Young's probation.

Alleging, inter alia, that during January 2001, Dr. Lightfoote-Young refused to participate any further in the Diversion Program, the Board filed a petition to revoke her probation. On September 26, 2002, a hearing was held before an Administrative Law Judge from the Los Angeles Office of Administrative Hearings. On November 5, 2002, the Board approved the Administrative Law Judge's Proposed Decision and issued its Decision, effective December 5, 2002, revoking Dr. Lightfoote-Young's license to practice medicine in the State of California for an indefinite period.

The investigative file contains no evidence that the Board's Decision has been stayed or that Dr. Lightfoote-Young's medical license has been reinstated. Therefore, the Acting Deputy Administrator finds that Dr. Lightfoote-Young is not currently authorized to practice medicine in the State of California. As a result, it is reasonable to infer that she is also without authorization to handle controlled substances in that state.

DEA does not have statutory authority under the Controlled Substances Act to issue or maintain a registration if the applicant or registrant is without state authority to handle controlled substances in the state in which she conducts business. See 21 U.S.C. 802(21), 823(f) and 824(a)(3). This prerequisite has been consistently upheld. See Muttaiya Darmarajeh, M.D., 66 FR 52936 (2001); Dominick A. Ricci, M.D., 58 FR 51104 (1993); Bobby Watts, M.D., 53 FR 11919 (1988).

Here, it is clear that Dr. Lightfoote-Young's medical license has been revoked and she is not licensed to handle controlled substances in the State of California, where she is registered with DEA. Therefore, she is not entitled to a DEA registration in that state.

Accordingly, the Acting Deputy Administrator of the Drug Enforcement Administration, pursuant to the authority vested in her by 21 U.S.C. 823 and 824 and 28 CFR 0.100(b) and 0.104, hereby order that DEA Certificate of Registration BL0935518, issued to Brenda J. Lightfoote-Young, M.D., be, and it hereby is, revoked. The Acting Deputy Administrator further orders that any pending applications for renewal of such registration be, and they hereby are, denied. This order is effective February 9, 2004.

Dated: December 18, 2003.
Michelle M. Leonhart,
Acting Deputy Administrator.

[FR Doc. 04-340 Filed 1-7-04; 8:45 am]

BILLING CODE 4410-09-M